DEPARTMENT OF AGRICULTURE

Forest Service

Intermountain Region, Boise, Payette, and Sawtooth National Forests; ID; Amendment to the 2003 Land and Resource Management Plans: Wildlife Conservation Strategy (Forested Biological Community)

AGENCY: Forest Service, USDA.

ACTION: Third correction of notice of intent (NOI) to prepare an environmental impact statement (EIS).

SUMMARY: On September 14, 2007, the Forest Service published an NOI to prepare an EIS to disclose the environmental effects of proposed non-significant amendments to the three Southwest Idaho Ecogroup (SWIE) 2003 Land and Resource Management Plans (Forest Plans). The September 2007 NOI noted that amendments to the 2003 Forest Plans for the Boise, Payette, and Sawtooth National Forests (NFs) will add and/or modify existing management direction, as needed, to implement a comprehensive, Forest Plan-level, wildlife conservation strategy (WCS). A correction to the September 14, 2007 NOI was published on December 8, 2008. The December 2008 correction was published to reflect a delay of more than a year in filing the draft EIS. The December 2008 correction also provided notice of a change in the approach to the amendment process, dividing the WCS and amendment process into four phases, each with an individual environmental impact statement. The December 8, 2008 NOI was corrected on April 22, 2009 to reflect that three EISs will be prepared (one for each Forest) instead of one EIS addressing all three Forests. This NOI corrects the April 22, 2009 NOI to reflect a change in the level of documentation from an EIS to an environmental assessment (EA) and Finding of No Significant Impact (FONSI) for the analysis of the proposed amendment for the Sawtooth Forest Plan. Analysis for the Boise and Payette Plan amendments will continue to be documented in individual EIS's.

DATES: Comments concerning this correction must be received within 30 days following the date of publication of this NOI. The final EIS for the Boise Forest and the draft EIS for the Payette Forest are expected to be available in the summer of 2010. The EA and FONSI for the Sawtooth NF are expected to be available in the late summer/early fall of 2010.

ADDRESSES: Send written comments to Sharon LaBrecque, Planning Staff Officer, Sawtooth National Forest; 2647 Kimberly Road East, Twin Falls, ID 83301; or by fax at (208) 737-3236; or you may hand-deliver your comments to the Sawtooth Forest Supervisor's Office, located at 2647 Kimberly Road East, Twin Falls, during normal business hours from 8 a.m. to 5 p.m., Monday through Friday, excluding Federal holidays. Electronic comments must be submitted in a format such as an e-mail message, plain text (.txt), rich text format (.rtf), or Word (.doc) to: comments-intermtn-sawtooth@fs.fed.us.

Comments received in response to this solicitation, including names and addresses of those who comment, will be part of the public record for this proposed action. Comments submitted anonymously will be accepted and considered; however, anonymous comments will not provide the respondent with standing to appeal the subsequent decision.

FOR FURTHER INFORMATION CONTACT: Sharon LaBrecque, Planning Staff Officer, Sawtooth National Forest, 2647 Kimberly Road East, Twin Falls, ID 83301, telephone 208-737-3200. Individuals who use telecommunication devices for the deaf (TDD) may call the Federal Information Relay Service (FIRS) at 1-800-877-8339 between 8 a.m. and 8 p.m., Eastern Time, Monday through Friday.

SUPPLEMENTARY INFORMATION: Separate RODs for revised Forest Plans were issued in July 2003 for the Boise, Payette, and Sawtooth NFs. The RODs implemented Alternative 7, as identified in the single 2003 final EIS that disclosed the environmental effects of the seven alternatives. Implementation of the three revised Forest Plans began in September 2003. Assessments supporting the 2003 Forest Plan revision identified more habitat areas in need of restoration for a variety of species within each planning unit than could be moved toward desired conditions by natural processes or management activities within the 10- to 15-year planning period. As a result, the 2003 Forest Plans for the Boise, Payette, and Sawtooth NFs identified that maintaining and restoring habitats for species of concern should be prioritized based upon the greatest risks to the persistence of certain species (Boise and Payette Forest Plans, p. 11-10 and Sawtooth Forest Plan, p. 11-9). To address this need, each Forest Plan included a wildlife objective, WIOB03, to prioritize wildlife habitat to be restored at a mid- or Forest-scale, using information from sources such as species habitat models and fine scale analyses. On September 14, 2007, the Forest Service published an NOI to prepare an EIS to disclose the environmental effects of proposed non-significant amendments to the three SWIE 2003 Forest Plans (Federal Register, Vol. 72, No. 178, pp. 52540-52542). The intent of the amendments was to address wildlife objective WIOB03 to prioritize wildlife habitat to be restored at a mid- or Forest-scale. A correction to the September 14, 2007 NOI was published on December 8, 2008 to reflect a delay of more than a year in filing the draft EIS. Given the complexity of species and associated habitats found across the three Forests, the December 2008 correction also provided notice of a change in the approach to the amendment process, dividing the WCS amendments into four phases. The first phase addresses the forested biological community, with subsequent phases slated to address rangeland; unique combinations of rangeland and forest; and riparian/wetland biological communities. The WCS amendments will include a prioritization framework for implementation of the 2003 Forest Plan direction that managers can use to help focus limited resources and funds for restoration on areas most important to species of concern. The December 2008 NOI correction stated that one EIS would be published for each phase of the WCS. On April 22, 2009, a correction to the December 2008 NOI was published to reflect that three EISs will be prepared (one for each Forest) instead of one EIS addressing all three Forests.

Assessments completed to date for the forested biological community WCS indicate that fewer changes to the Sawtooth Forest Plan direction are needed to implement a prioritized WCS than the Boise and Payette forest plans will require. This is in part due to that fact that the Sawtooth does not have the low elevation pine forests found on the Boise and Payette. Across southwest Idaho, it is the low elevation pine forests that are the most highly departed from historic conditions; pose the highest need for restoration; and affect the greatest need for change in management direction to be addressed in the forested biological community WCS plan amendments. The mid- to high elevation forests more typical of the Sawtooth National Forest are less departed. The Sawtooth Forest Plan did not include the MPC (Management prescription Category) 5.2 allocation unit that emphasized commodity production that resulted in forest conditions substantially outside their historic range of variation. And finally, management direction in the 2003 Sawtooth Forest Plan already provides most of the specific restoration objectives for many of the Forest's species of greatest conservation concern associated with the forested biological communities. Because of this, the Sawtooth Forest Plan will require only the identification of priority watersheds for restoration and minor amendments to management direction. Preliminary assessment results indicate that the effects of implementing the proposed plan amendment should have only minor environmental effects to the forested biological community on the Sawtooth NF, as well as outputs and services envisioned under the 2003 Forest Plan.

Dated: June 28, 2010.
Terence O. Clark, III,
Acting Sawtooth National Forest Supervisor.

[FR Doc. 2010-16275 Filed 7-2-10; 8:45 am]

BILLING CODE 3410-11-P